DEPARTMENT OF ENERGY

Federal Energy Regulatory Commission

Notice of Commissioner and Staff Attendance at North American Electric Reliability Corporation Meetings

The Federal Energy Regulatory Commission hereby gives notice that members of the Commission and/or Commissioners may attend the following meetings:

North American Electric Reliability Corporation, Member Representatives Committee and Board of Trustees Meetings, Board of Trustees Corporate Governance and Human Resources Committee, Finance and Audit Committee, Compliance Committee, and Technology and Security Committee Meetings

The Ritz-Carlton, Pentagon City, 1250 South Hayes Street, Arlington, VA 22202

May 11 (8:00 a.m.-5:00 p.m. eastern time) and May 12 (8:30 a.m.-12:00 p.m. eastern time), 2022

Further information regarding these meetings may be found at: http://www.nerc.com/Pages/Calendar.aspx.

The discussions at the meetings, which are open to the public, may address matters at issue in the following Commission proceedings:

Docket No. RR22-2-000, North American Electric Reliability Corp. and Northeast Power Coordinating Council, Inc.

Docket No. RR21-8-000, North American Electric Reliability Corp.

Docket No. RD22-3-000, North American Electric Reliability Corp.

Docket No. EL21-99-000, Michael Mabee

Docket No. EL21-105-000, George R. Cotter

For further information, please contact Jonathan First, 202-502-8529, or jonathan.first@ferc.gov.

Dated: April 29, 2022.
Debbie-Anne A. Reese,
Deputy Secretary.

[FR Doc. 2022-09650 Filed 5-4-22; 8:45 am]

BILLING CODE 6717-01-P